DEPARTMENT OF DEFENSE

GENERAL SERVICES ADMINISTRATION

NATIONAL AERONAUTICS AND SPACE ADMINISTRATION

[OMB Control No. 9000-0161]

Federal Acquisition Regulation; Submission for OMB Review; Reporting Purchases from Sources Outside the United States

AGENCIES: Department of Defense (DOD), General Services Administration (GSA), and National Aeronautics and Space Administration (NASA).

ACTION: Notice of request for public comments regarding an extension to an existing OMB clearance (9000-0161).

SUMMARY: Under the provisions of the Paperwork Reduction Act of 1995 (44 U.S.C. Chapter 35), the Federal Acquisition Regulation (FAR) Secretariat has submitted to the Office of Management and Budget (OMB) a request to review and approve an extension of a currently approved information collection requirement concerning reporting purchases from sources outside the United States. The clearance currently expires on November 30, 2007.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before September 12, 2007.

ADDRESSES: Submit comments, including suggestions for reducing this burden to: FAR Desk Officer, OMB, Room 10102, NEOB, Washington, DC 20503, and a copy to the General Services Administration, FAR Secretariat (VIR), 1800 F Street, NW, Room 4035, Washington, DC 20405.

FOR FURTHER INFORMATION CONTACT Ms. Meredith Murphy, Contract Policy Division, GSA, (202) 208-6925.

SUPPLEMENTARY INFORMATION:

A. Purpose

The information on place of manufacture will be used by each Federal agency to prepare the report required for submission to Congress.

B. Annual Reporting Burden

Respondents: 95,365.

Responses Per Respondent: 40.

Total Responses: 3,814,600.

Hours Per Response: .01.

Total Burden Hours: 38,146.

OBTAINING COPIES OF PROPOSALS: Requesters may obtain a copy of the information collection documents from the General Services Administration, Regulatory Secretariat (VIR), Room 4035, 1800 F Street, NW, Washington, DC 20405, telephone (202) 501-4755. Please cite OMB Control Number 9000-0161, Reporting Purchases from Sources Outside the United States, in all correspondence.

Dated: August 3, 2007.
Al Matera,
Director, Office of Acquistion Policy.

[FR Doc. 07-3938 Filed 8-10-07; 8:45 am]

BILLING CODE 6820-EP-S